DEPARTMENT OF LABOR

Employee Benefits Security Administration

Advisory Council on Employee Welfare and Pension Benefit Plans; Notice of Meeting

Pursuant to the authority contained in Section 512 of the Employee Retirement Income Security Act of 1974 (ERISA), 29 U.S.C. 1142, the 144th open meeting of the full Advisory Council on Employee Welfare and Pension Benefit Plans will be held on November 6, 2008.

The meeting will run from 9:30 a.m. to approximately 4:30 p.m., with a break for lunch. The morning session will take place in C5515, Room 3, U.S. Department of Labor, 200 Constitution Avenue, NW., Washington, DC 20210. The afternoon session will take place in Room S-2508 at the same address. The purpose of the open meeting is for the chairpersons of the three Advisory Council Working Groups to submit their findings and recommendations on their individual study topics for the full Advisory Council's review, acceptance, and presentation to the Secretary of Labor.

In addition, the Working Groups assigned by the Advisory Council to study the issues of (1) The “spend down” of retirement assets, (2), phased retirement, and (3) hard to value assets/target date funds, will hold a public meeting on November 5, 2008. The meeting will take place in C5515, Room 3, U.S. Department of Labor, 200 Constitution Avenue, NW., Washington, DC 20210. The purpose of the open meeting on November 5, which will start at 1 p.m., is for Working Group members to discuss their recommendations for the reports to be presented by the Advisory Council to the Secretary.

Organizations or members of the public wishing to submit a written statement for any of the meetings may do so by submitting 30 copies on or before October 29, 2008 to Larry Good, Executive Secretary, ERISA Advisory Council, U.S. Department of Labor, Suite N-5623, 200 Constitution Avenue, NW., Washington, DC 20210. Statements also may be submitted electronically to good.larry@dol.gov. Statements received on or before October 29 will be included in the record of the relevant meeting. Individuals or representatives of organizations wishing to address the Advisory Council should forward their request to the Executive Secretary by October 29 at the above address or via telephone at (202) 693-8668. Oral presentations will be limited to 10 minutes, time permitting, but an extended statement may be submitted for the record. Individuals with disabilities who need special accommodations should contact Larry Good by October 29 at the address indicated in this notice.

Signed at Washington, DC.
This 14th day of October, 2008.
Bradford P. Campbell,
Assistant Secretary, Employee Benefits Security Administration.

[FR Doc. E8-24765 Filed 10-17-08; 8:45 am]

BILLING CODE 4510-29-P